NATIONAL TRANSPORTATION SAFETY BOARD

Withdrawal of Notice

AGENCY: National Transportation Safety Board (NTSB).

ACTION: Notice.

SUMMARY: The NTSB is withdrawing a notice of the SES Performance Review Board to be published in the Federal Register on October 11, 2016, (Document 2016-24439) titled: SES Performance Review Board. The notice contained the incorrect document. This document withdraws the previous submission.

FOR FURTHER INFORMATION CONTACT: Emily T. Carroll, Chief, Human Resources Division, Office of Administration, National Transportation Safety Board, 490 L'Enfant Plaza SW., Washington, DC 20594-0001, (202) 314-6233.

Candi R. Bing,
Federal Register Liaison.

[FR Doc. 2016-24449 Filed 10-7-16; 8:45 am]

BILLING CODE 7533-01-P